DEPARTMENT OF DEFENSE

Department of the Army

[Docket ID: USA-2020-HQ-0001]

Proposed Collection; Comment Request

AGENCY: Assistant Secretary of the Army for Financial Management & Comptroller, DoD.

ACTION: Information collection notice.

SUMMARY: In compliance with the Paperwork Reduction Act of 1995, the Assistant Secretary of the Army for Financial Management & Comptroller announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 17, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to ASA (FM&C), Attn: Mr. Roger A. Pillar, 2521 S Clark St., Suite 7159, Arlington, VA 22202, or call Mr. Roger A. Pillar, GFEBS Functional Director at 703-545-8855.

SUPPLEMENTARY INFORMATION:

Title; Associated Form; and OMB Number: Supplier Self-Services (SUS); OMB Control Number 0702-0126.

Needs and Uses: The information collection requirement via SUS is necessary to reduce the amount and complexity of required input by vendors that manually enter invoice data into Wide Area Workflow (WAWF) (not those utilizing Electronic Data Interchange (EDI)). By pre-populating fields with accurate and up-to-date contract information, vendors are required to input significantly less data. Additionally, SUS simultaneously performs a front-end validation of submitted data, thus ensuring less manual intervention and fewer interest penalties incurred by the government.

Affected Public: Business or Other-For-Profit.

Annual Burden Hours: 10,402.

Number of Respondents: 8,668.

Responses per Respondent: 12.

Annual Responses: 104,016.

Average Burden per Response: 6 minutes.

Frequency: On occasion.

SUS leverages a DoD portal developed by WAWF known as “OneStop” that facilitates WAWF's interaction with ERPs. Respondents are vendors that continue to utilize WAWF as the mandated single point of entry and for viewing historical records, but are routed seamlessly to the SUS module for invoice data entry referencing the ERP contract data.

Dated: January 14, 2020.
Morgan E. Park,
Alternate OSD Federal Register Liaison Officer, Department of Defense.

[FR Doc. 2020-00709 Filed 1-16-20; 8:45 am]

BILLING CODE 5001-06-P